DEPARTMENT OF EDUCATION

Applications for New Awards; National Professional Development

AGENCY: Office of English Language Acquisition, Department of Education.

ACTION: Notice.

SUMMARY: The Department of Education (Department) is issuing a notice inviting applications for fiscal year (FY) 2024 for the National Professional Development (NPD) program, Assistance Listing Number 84.365Z. This notice relates to the approved information collection under OMB control number 1894-0006.

DATES:

Applications Available: March 12, 2024.

Deadline for Notice of Intent to Apply: April 11, 2024.

Deadline for Transmittal of Applications: May 13, 2024.

Deadline for Intergovernmental Review: July 10, 2024.

ADDRESSES: For the addresses for obtaining and submitting an application, please refer to our Common Instructions for Applicants to Department of Education Discretionary Grant Programs, published in the Federal Register on December 7, 2022 (87 FR 75045) and available at www.federalregister.gov/documents/2022/12/07/2022-26554/common-instructions-for-applicants-to-department-of-education-discretionary-grant-programs. Please note that these Common Instructions supersede the version published on December 27, 2021.

FOR FURTHER INFORMATION CONTACT: Francisco J. López, Jr., U.S. Department of Education, 400 Maryland Ave. SW, Washington, DC 20202. Telephone: (202) 558-4880. Email: NPD2024@ed.gov.

If you are deaf, hard of hearing, or have a speech disability and wish to access telecommunications relay services, please dial 7-1-1.

SUPPLEMENTARY INFORMATION:

Full Text of Announcement

I. Funding Opportunity Description

Purpose of Program: Under the NPD program, authorized by sections 3111(c)(1)(C) and 3131 of the Elementary and Secondary Education Act of 1965, as amended (ESEA), the Department awards grants to public and private nonprofit institutions of higher education (IHEs) and public and private entities with relevant experience and capacity, in consortia with State educational agencies (SEAs) and/or local educational agencies (LEAs) to implement pre-service and in-service professional development activities intended to improve instruction for English learners (ELs) and assist education personnel working with ELs to meet high professional standards. Grants awarded under this program may be used for effective pre-service professional development programs that will increase the number and diversity of fully licensed or certified bilingual or multilingual teachers. The purpose of the grants to be awarded under this competition is to increase the number of bilingual and multilingual teachers supporting ELs.

Background:

“Raise the Bar (RTB): Lead the World” is the Department's call to action to transform prekindergarten through postsecondary learning and unite around what truly works by promoting academic excellence, boldly improving learning conditions, and preparing our Nation's students for global competitiveness.¹ To achieve these goals, we must work to eliminate the educator shortage, increase services for EL students, and expand pathways to multilingualism for all students.

¹ www.ed.gov/raisethebar/.

The NPD program, specifically the pre-service component of NPD, is uniquely positioned to support the Department's RTB goals by helping to ensure that ELs have access to well-prepared educators and by quickly growing the number of qualified bilingual and multilingual educators needed to expand the availability of bilingual programs. As supported by the Native American Language Act of 1990 (NALA 1990) as amended by the Durbin Feeling Languages Act and sections 3127 and 3124(3) of the ESEA, we welcome participation from applicants proposing projects that increase the number of teachers who are bilingual or multilingual in a Native American language and a second language to support the unique needs of Native American EL students and expand pathways to multilingualism for all Native American students.

As described in the absolute priority, this competition is designed to support pre-service projects that recruit bilingual or multilingual teacher candidates and that propose to implement at least one grow-your-own (GYO) strategy as part of their overall objective of increasing the number of fully licensed or certified bilingual and multilingual teachers. Drawing upon partnerships with community-based organizations, school districts, and IHEs, GYO programs recruit students from local areas through outreach, close collaboration with school counselors and teachers, and meaningful opportunities to learn about and engage in the teaching profession. Along with financial support, participating students are provided academic, social and other support to ensure completion of the program (e.g., stipends, licensure preparation, mentoring, and peer groups).² These programs may be designed for high school students who want to become educators or adults such as paraprofessionals who are working in schools but need the credentials to teach.

² ies.ed.gov/ncee/edlabs/regions/northwest/pdf/strategies-for-educators.pdf.

For example, bilingual and multilingual students who have earned the Seal of Biliteracy have demonstrated competencies in English and one or more other languages and could be strong potential participants in a GYO project. Since the inception of the Seal of Biliteracy in California in 2011, the program has been replicated in 48 States and the District of Columbia, each of which has approved its own statewide Seal of Biliteracy. Through the NPD program, we encourage projects that incentivize high school graduates who have received the seal to pursue a career as a bilingual or multilingual teacher. These students could also be supported through dual enrollment, early college, and Career and Technical Education programs that provide students interested in teaching with opportunities to earn related credits and other experiential related opportunities. Additionally, bilingual and multilingual paraprofessionals, high-quality substitute teachers, and others in a community who are interested in becoming bilingual or multilingual teachers are a valuable resource and may have strong connections to the local community. Providing them with support through GYO strategies may result in a quicker pathway to certification or licensure given any postsecondary credits they may already have.

As part of the FY 2024 NPD competition, we also aim to diversify the teacher workforce. Students, particularly emerging bilingual and multilingual students, from low-income backgrounds are a critical part of addressing the need to provide culturally and linguistically relevant teaching in underserved schools and to give all students the opportunity to benefit from diverse educators. Consistent with the Secretary's overall priorities, applicants are encouraged to propose projects that recruit, prepare, and retain students from low-income backgrounds, including those who live in rural areas or who are first-generation candidates, as they transition to and enroll in postsecondary education, including by helping students complete the FAFSA and secure additional financial support such as service scholarships. This may also include designing a pre-service program that removes barriers to participation by helping candidates who are from low-income backgrounds with tuition, fees, books, supplies, childcare, and transportation to and from pre-service classes as a few examples.

As the EL population continues to grow, and as our global economy becomes more interconnected, it is critical that we give every student every educational opportunity, which begins with teachers who are well prepared and supported and have the language, skills, knowledge, and cultural competencies to serve EL students.

Priorities: This notice includes one absolute priority, one competitive preference priority, and one invitational priority. In accordance with 34 CFR 75.105(b)(2)(iv), the absolute priority is from the notice of priorities, requirements, and definitions for this program published elsewhere in this issue of the Federal Register (2024 NFP). The competitive preference priority is from the Administrative Priorities for Discretionary Grants Programs (Administrative Priorities), published in the Federal Register on March 9, 2020 (85 FR 13640).

Absolute Priority: For FY 2024 and any subsequent year in which we make awards from the list of unfunded applications from this competition, the following priority is an absolute priority. Under 34 CFR 75.105(c)(3) we consider only applications that meet this priority.

The priority is:

Increase the Number of Bilingual or Multilingual Teachers Through a Grow-Your-Own (GYO) Pre-Service Program that Recruits Teacher Candidates who are Bilingual or Multilingual.

Projects that propose to increase the number of fully licensed or certified bilingual or multilingual teachers working in language instruction educational programs or serving ELs, and improve their qualifications and skills, through evidence-based (as defined in 34 CFR 77.1(c)) pre-service programs. Applicants must describe their plan for recruiting, supporting, and retaining teacher candidates who are bilingual or multilingual. Applicants must include in their proposed plan for a pre-service program, one or more of the following GYO strategies that are designed to address shortages of bilingual or multilingual teachers and increase the diversity of qualified individuals entering the educator workforce:

(a) Implementing evidence-based GYO strategies for bilingual or multilingual individuals (e.g., creating dual enrollment, early college, and Career and Technical Education programs in teaching for middle and high school students paired with offering seals of biliteracy or supporting bilingual or multilingual paraprofessionals actively working in P-12 schools in becoming teachers).

(b) Recruiting bilingual or multilingual individuals who may have a teaching credential, but who are not certified to teach bilingual or multilingual education, and supporting them in earning the additional certification.

(c) Implementing evidence-based teacher residencies in bilingual or multilingual education, including scaling these evidence-based pathways through a registered teacher apprenticeship program.

Competitive Preference Priority: For FY 2024 and any subsequent year in which we make awards from the list of unfunded applications from this competition, this priority is a competitive preference priority. Under 34 CFR 75.105(c)(2), we award up to an additional five points to an application that meets the competitive preference priority. An applicant must clearly identify in the project abstract and the project narrative section of its application that it is addressing the competitive preference priority for purposes of earning competitive preference priority points.

This priority is:

Applications From New Potential Grantees (0 or 5 points).

(a) Under this priority, an applicant must demonstrate that it does not, as of the deadline date for submission of applications, have an active grant, including through membership in a group application submitted in accordance with 34 CFR 75.127-75.129, under the program from which it seeks funds.

(b) For the purpose of this priority, a grant or contract is active until the end of the grant's or contract's project or funding period, including any extensions of those periods that extend the grantee's or contractor's authority to obligate funds.

Invitational Priority: For FY 2024, this priority is an invitational priority. Under 34 CFR 75.105(c)(1), we do not give an application that meets this invitational priority a competitive or absolute preference over other applications.

This priority is:

Service to Students from First-Generation or Low-Income Backgrounds.

Projects to recruit, prepare, and retain students in the pre-service program who are first-generation postsecondary students (i.e., whose parents' highest level of education is a high school diploma or less) or who are from low-income backgrounds.

Application Requirements: An applicant must provide the indicators it proposes to use to determine if a participant meets the definition of “bilingual or multilingual.” Applicants may provide this information in response to the selection criteria, or otherwise as applicable, in their applications. (2024 NFP)

Definitions: The following definitions of “bilingual or multilingual” and “pre-service” are from the 2024 NFP.

Bilingual or multilingual means able to listen, speak, read, and write in two or more languages with at least a high level of proficiency in each language, as determined based on indicators of proficiency established by the grantee. Note, bilingual or multilingual means a high level of proficiency in the domains that exist for the language, which may be fewer than four domains for some languages.

Pre-service means the period of preparation for a person who does not have a prior teaching certificate or license and who is enrolled in a State-approved teacher education program that leads to a full State-approved certificate or license.

Program Authority: 20 U.S.C. 6861.

Note: Projects will be awarded and must be operated in a manner consistent with the nondiscrimination requirements contained in Federal civil rights laws.

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The 2024 NFP. (e) The Administrative Priorities.

Note: The regulations in 34 CFR part 86 apply to IHEs only.

II. Award Information

Type of Award: Discretionary grants.

Estimated Available Funds: $8,400,000.

The actual level of funding, if any, depends on final congressional action. However, we are inviting applications to allow enough time to complete the grant process if Congress appropriates funds for this program. Contingent upon the availability of funds and the quality of applications, we may make additional awards in subsequent years from the list of unfunded applications from this competition.

Estimated Range of Awards: $600,000-$700,000.

Maximum Award: $700,000 per year.

Estimated Number of Awards: 12.

Note: The Department is not bound by any estimates in this notice.

Project Period: 60 months.

III. Eligibility Information

1. Eligible Applicants: IHEs, or public or private entities with relevant experience and capacity, in consortia with LEAs or SEAs.

2. a. Cost Sharing or Matching: This program does not require cost sharing or matching.

b. Indirect Cost Rate Information: This program uses a training indirect cost rate. This limits indirect cost reimbursement to an entity's actual indirect costs, as determined in its negotiated indirect cost rate agreement, or eight percent of a modified total direct cost base, whichever amount is less. For more information regarding training indirect cost rates, see 34 CFR 75.562. For more information regarding indirect costs, or to obtain a negotiated indirect cost rate, please see www2.ed.gov/about/offices/list/ocfo/intro.html.

c. Administrative Cost Limitation: This program does not include any program-specific limitation on administrative expenses. All administrative expenses must be reasonable and necessary and conform to Cost Principles described in 2 CFR part 200 subpart E of the Uniform Guidance.

d. Limitation on Awards: To maximize student population needs and geographic diversity, the number of awards per single entity will be limited to one per DUNS or UEI number.

3. Subgrantees: A grantee under this competition may not award subgrants to entities to directly carry out project activities described in its application.

IV. Application and Submission Information

1. Application Submission Instructions: Applicants are required to follow the Common Instructions for Applicants to Department of Education Discretionary Grant Programs, published in the Federal Register on December 7, 2022 (87 FR 75045) and available at https://www.federalregister.gov/documents/2022/12/07/2022-26554/common-instructions-for-applicants-to-department-of-education-discretionary-grant-programs. Please note that these Common Instructions supersede the version published on December 27, 2021.

2. Submission of Proprietary Information: Given the types of projects that may be proposed in applications for the NPD competition, your application may include business information that you consider proprietary. In 34 CFR 5.11 we define “business information” and describe the process we use in determining whether any of that information is proprietary and, thus, protected from disclosure under Exemption 4 of the Freedom of Information Act (5 U.S.C. 552, as amended).

Consistent with the process followed in prior NPD competitions, we may post the project narrative section of funded NPD applications on the Department's website so you may wish to request confidentiality of business information. Identifying proprietary information in the submitted application will help facilitate this public disclosure process.

Consistent with Executive Order 12600, please designate in your application any information that you believe is exempt from disclosure under Exemption 4. In the appropriate Appendix section of your application, under “Other Attachments Form,” please list the page number or numbers on which we can find this information. For additional information please see 34 CFR 5.11(c).

3. Intergovernmental Review: This competition is subject to Executive Order 12372 and the regulations in 34 CFR part 79. Information about Intergovernmental Review of Federal Programs under Executive Order 12372 is in the application package for this competition.

4. Funding Restrictions: We reference regulations outlining funding restrictions in the Applicable Regulations section of this notice.

5. Recommended Page Limit: The application narrative is where you, the applicant, address the selection criteria that reviewers use to evaluate your application.We recommend that you (1) limit the application narrative to no more than 35 pages and (2) use the following standards:

• A “page” is 8.5” x 11”, on one side only, with 1” margins at the top, bottom, and both sides.

• Double space (no more than three lines per vertical inch) all text in the application narrative, including titles, headings, footnotes, quotations, references, and captions.

• Use a font that is either 12 point or larger or no smaller than 10 pitch (characters per inch).

• Use one of the following fonts: Times New Roman, Courier, Courier New, or Arial.

The recommended page limit for the application does not apply to the cover sheet; the budget section, including the narrative budget justification; the assurances and certifications; or the one-page abstract, the bibliography, or the letters of support of the application. However, the recommended page limit does apply to the entire narrative section of the application. An application will not be disqualified if it exceeds the recommended page limit.

6. Notice of Intent to Apply: The Department will be able to review grant applications more efficiently if we know the approximate number of applicants that intend to apply. Therefore, we strongly encourage each potential applicant to notify us of their intent to submit an application. To do so, please email the program contact person listed under FOR FURTHER INFORMATION CONTACT with the subject line “Intent to Apply,” and include the applicant's name and a contact person's name and email address. Applicants that do not submit a notice of intent to apply may still apply for funding; applicants that do submit a notice of intent to apply are not bound to apply or bound by the information provided.

V. Application Review Information

1. Selection Criteria: The selection criteria for this competition are from section 34 CFR 75.210. The maximum score for all of these criteria is 100 points (not including competitive preference priority points). The maximum score for each criterion is indicated in parentheses.

(a) Quality of the project design. (up to 33 points)

(1) The Secretary considers the quality of the design of the proposed project.

(2) In determining the quality of the design of the proposed project, the Secretary considers the following factors:

(i) The extent to which the goals, objectives, and outcomes to be achieved by the proposed project are clearly specified and measurable.

(ii) The extent to which the design for implementing and evaluating the proposed project will result in information to guide possible replication of project activities or strategies, including information about the effectiveness of the approach or strategies employed by the project.

(iii) The extent to which the proposed project demonstrates a rationale (as defined in 34 CFR 77.1(c)).

(b) Quality of project personnel. (up to 12 points)

(1) The Secretary considers the quality of the personnel who will carry out the proposed project.

(2) In determining the quality of project personnel, the Secretary considers the extent to which the applicant encourages applications for employment from persons who are members of groups that have traditionally been underrepresented based on race, color, national origin, gender, age, or disability.

(3) In addition, the Secretary considers the following factors:

(i) The qualifications, including relevant training and experience, of the project director or principal investigator.

(ii) The qualifications, including relevant training and experience, of key project personnel.

(c) Quality of the management plan. (up to 28 points)

(1) The Secretary considers the quality of the management plan for the proposed project.

(2) In determining the quality of the management plan for the proposed project, the Secretary considers the following factors:

(i) The adequacy of the management plan to achieve the objectives of the proposed project on time and within budget, including clearly defined responsibilities, timelines, and milestones for accomplishing project tasks.

(ii) The extent to which the time commitments of the project director and principal investigator and other key project personnel are appropriate and adequate to meet the objectives of the proposed project.

(d) Adequacy of resources. (up to 6 points)

(1) The Secretary considers the adequacy of resources for the proposed project.

(2) In determining the adequacy of resources for the proposed project, the Secretary considers the following factors:

(i) The extent to which the costs are reasonable in relation to the objectives, design, and potential significance of the proposed project.

(ii) The extent to which the costs are reasonable in relation to the number of persons to be served and to the anticipated results and benefits.

(e) Quality of the project evaluation. (up to 21 points)

(1) The Secretary considers the quality of the evaluation to be conducted of the proposed project.

(2) In determining the quality of the evaluation, the Secretary considers the following factors:

(i) The extent to which the methods of evaluation are thorough, feasible, and appropriate to the goals, objectives, and outcomes of the proposed project.

(ii) The extent to which the methods of evaluation will provide performance feedback and permit periodic assessment of progress toward achieving intended outcomes.

(iii) The extent to which the methods of evaluation will provide valid and reliable performance data on relevant outcomes.

2. Review and Selection Process: The Department will screen applications that are submitted for NPD grants in accordance with the requirements in this notice and determine which applications meet the eligibility and other requirements. Peer reviewers will review all eligible applications for NPD grants that are submitted by the established deadline.

Applicants should note, however, that we may screen for eligibility at multiple points during the competition process, including before and after peer review; applicants that are determined to be ineligible will not receive a grant award regardless of peer reviewer scores or comments. If we determine that an application does not meet an NPD requirement, the application will not be considered for funding.

For NPD grant applications, the Department intends to conduct a thorough and impartial review process to review and score all eligible applications. Content reviewers will review and score all eligible applications on the following selection criteria: (a) Quality of the project design; (b) Quality of project personnel; (c) Quality of the management plan; and (d) Adequacy of resources. Peer reviewers with evaluation expertise will review and score selection criterion (e) Quality of the project evaluation.

We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances including those applicable to Federal civil rights laws that prohibit discrimination in programs or activities receiving Federal financial assistance from the Department (34 CFR 100.4, 104.5, 106.4, 108.8, and 110.23).

3. Risk Assessment and Specific Conditions: Consistent with 2 CFR 200.206, before awarding grants under this program the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, appendix XII, require you to report certain integrity information to FAPIIS semiannually. Please review the requirements in 2 CFR part 200, appendix XII, if this grant plus all the other Federal funds you receive exceed $10,000,000.

5. In General: In accordance with the Office of Management and Budget's guidance located at 2 CFR part 200, all applicable Federal laws, and relevant Executive guidance, the Department will review and consider applications for funding pursuant to this notice inviting applications in accordance with—

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We may notify you informally, also. If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to http://www.ed.gov/fund/grant/apply/appforms.html.

(c) The Secretary may provide a grantee with additional funding for data collection, analysis, and reporting. In this case the Secretary establishes a data collection period.

5. Performance Measures: (a) The Department has established the following performance measures for the purpose of Department reporting under 34 CFR 75.110:

Measure 1: The percentage of project-specific annual goals the program met.

Measure 2: The number of bilingual or multilingual pre-service program participants enrolled annually.

Measure 3: Under measure 2, the number of bilingual or multilingual participants who are making progress toward becoming fully State certified, licensed, or endorsed in EL instruction.

Measure 4: Under measure 2, the number of bilingual or multilingual participants who have become fully State certified, licensed, or endorsed annually.

(b) Indicators of success. These measures constitute the Department's indicators of success for this program. Consequently, we advise an applicant for a grant under this program to carefully consider these measures in conceptualizing the approach for its proposed project plan.

(c) Baseline data. Applicants must provide baseline (as defined in 34 CFR 77.1) data in their applications for each of the project performance measures listed in (a) and explain how each proposed baseline is related to program outcomes; or, if the applicant has determined that there are no established baseline data for a particular performance measure, explain why there is no established baseline and explain how and when, during the project period, the applicant will establish a baseline for the performance measure.

(d) Performance measure targets. In addition, the applicant must propose in its application annual targets for the measures listed in paragraph (a). Applications must also include the following information as directed under 34 CFR 75.110(b):

(1) An explanation of how each proposed performance target is ambitious (as defined in 34 CFR 77.1) yet achievable compared to the baseline for the performance measure.

(2) An explanation of the data collection and reporting methods the applicant would use and why those methods are likely to yield reliable, valid, and meaningful performance data; and

(3) An explanation of the applicant's capacity to collect and report reliable, valid, and meaningful performance data, as evidenced by high-quality data collection, analysis, and reporting in other projects or research.

Note: If the applicant does not have experience with collection and reporting of performance data through other projects or research, the applicant should provide other evidence of capacity to successfully carry out data collection and reporting for its proposed project. The reviewers of each application will score related selection criteria based on how well an applicant has considered these measures in conceptualizing the approach and evaluation of the project.

(e) Performance Reports. All grantees must submit an annual performance report and final performance report with information that is responsive to these performance measures. The Department will consider this data in making annual continuation awards.

(f) Department Evaluations. Consistent with 34 CFR 75.591, grantees funded under this program must comply with the requirements of any evaluation of the program conducted by the Department or an evaluator selected by the Department.

6. Continuation Awards: In making a continuation award under 34 CFR 75.253, the Secretary considers, among other things: Whether a grantee has made substantial progress in achieving the goals and objectives of the project; whether the grantee has expended funds in a manner that is consistent with its approved application and budget; and, if the Secretary has established performance measurement requirements, whether the grantee has made substantial progress in achieving the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF, you must have Adobe Acrobat Reader, which is available free at the site.

You may also access documents of the Department published in the Federal Register by using the article search feature at www.federalregister.gov. Specifically, through the advanced search feature at this site, you can limit your search to documents published by the Department.

Montserrat Garibay,
Assistant Deputy Secretary and Director for the Office of English Language Acquisition.

[FR Doc. 2024-05206 Filed 3-8-24; 8:45 am]

BILLING CODE 4000-01-P